DEPARTMENT OF COMMERCE

National Oceanic and Atmospheric Administration

Proposed Information Collection; Comment Request; Estimating Economic Burden of Vibrio parahaemolyticus in Washington State Aquaculture

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before December 17, 2018.

ADDRESSES: Direct all written comments to Jennifer Jessup, Departmental Paperwork Clearance Officer, Department of Commerce, Room 6616, 14th and Constitution Avenue NW, Washington, DC 20230 (or via the internet at pracomments@doc.gov).

FOR FURTHER INFORMATION CONTACT: Requests for additional information or copies of the information collection instrument and instructions should be directed to Amy Freitag at 443-258-6066 or amy.freitag@noaa.gov.

SUPPLEMENTARY INFORMATION:

I. Abstract

The National Ocean Service (NOS) proposed a new collection in order to pursue three of the strategic goals of the NOAA Office of Aquaculture: To advance understanding of the interactions of aquaculture and the environment; to increase the supply of nutritious, safe, high-quality domestic seafood; develop and use socioeconomic and business research to advance domestic aquaculture. NOS proposes to estimate the costs associated with reported Vibrio illnesses, which is a demand expressed in a number of industry settings. Washington State Department of Health expressed desire for this information in order to more accurately plan their budgets.

Management agency staff, restaurant staff, and oyster farm staff will be asked to help develop a model of what kind of expenditures accrue during a response to a reported Vibrio illness and estimate the value of those expenditures. The results of the project will be used to develop a model to estimate the full suite of costs of seafood-borne illness and will provide an estimate for agency and business budget planners.

II. Method of Collection

The data collection will take place over a three to four month period and will be comprised of a questionnaire or set of interview questions to be completed by the respondent. Respondents will each have the option to respond via email, phone, or in-person, whichever they prefer.

III. Data

OMB Control Number: 0648-xxxx.

Form Number(s): None.

Type of Review: Regular submission (new information collection).

Affected Public: Business or other for-profit; state, local, or tribal government.

Estimated Number of Respondents: 50.

Estimated Time per Response: 1 hour.

Estimated Total Annual Burden Hours: 50 hours.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 12, 2018.
Sarah Brabson,
NOAA PRA Clearance Officer.

[FR Doc. 2018-22574 Filed 10-16-18; 8:45 am]

BILLING CODE 3510-JE-P